NUCLEAR REGULATORY COMMISSION

Advisory Committee on the Medical Uses of Isotopes: Charter Renewal

AGENCY: Nuclear Regulatory Commission.

ACTION: Notice of renewal of the Charter of the Advisory Committee on the Medical Uses of Isotopes.

The U.S. Nuclear Regulatory Commission (NRC) has determined that renewal of the charter for the Advisory Committee of the Medical Uses of Isotopes (ACMUI) until February 27, 2028, is in the public interest in connection with duties imposed on the Commission by law. This action is being taken in accordance with the Federal Advisory Committee Act, as amended, 5 U.S.C. chapter 10, after consultation with the Committee Management Secretariat, General Services Administration.

The purpose of the ACMUI is to provide advice to the NRC on policy and technical issues that arise in regulating the medical use of byproduct material for diagnosis and therapy. Responsibilities include providing guidance and comments on current and proposed NRC regulations and regulatory guidance concerning medical use; evaluating certain non-routine uses of byproduct material for medical use; and evaluating training and experience of proposed authorized users. The members are involved in preliminary discussions of major issues in determining the need for changes in NRC policy and regulation to ensure the continued safe use of byproduct material. Each member provides technical assistance in his/her specific area(s) of expertise, particularly with respect to emerging technologies. Members also provide guidance as to NRC's role in relation to the responsibilities of other Federal agencies as well as of various professional organizations and boards. ACMUI is in the public interest because the advice received from it helps the NRC ensure the safety of the public, patients, and workers who might be exposed to radiation from such medical usage.

To ensure the committee has the necessary expertise and fairly balanced membership, members are selected based on demonstrated professional qualifications and expertise in both scientific and non-scientific disciplines including nuclear medicine; nuclear cardiology; radiation therapy; medical physics; nuclear pharmacy; State medical regulation; patient's rights and care; health care administration; and Food and Drug Administration regulation. Because the NRC does not have this expertise on staff, it leverages the Committee's well-recognized specialists from different parts of the United States to provide advice and expert opinion on standards and guides used in diagnostic and therapeutic practices in the United States. The NRC continues to emphasize improving performance of medical use licensees and ACMUI's experts will continue to be needed to assist the Commission in this area. To develop and maintain a cost-effective and less burdensome in-house capability to match the quality and quantity of expert advice embodied in the ACMUI is not viable. A summary of specific accomplishments of ACMUI over the last charter term (February 2024-February 2026) can be reviewed at https://www.nrc.gov/about-nrc/regulatory/advisory/acmui/recomm-actions.

ACMUI is one of three advisory committees at the NRC. The others are the Advisory Committee on Reactor Safeguards and the Licensing Support Network Advisory Review Panel.

Estimated costs for ACMUI include federal personnel and other costs of $366,000; payments to members of $70,000 for 13 members; and reimbursable costs of $19,000.

FOR FURTHER INFORMATION CONTACT: Sarah Hoenig, Office of Nuclear Material Safety and Safeguards, U.S. Nuclear Regulatory Commission, Washington, DC 20555; Email: Sarah.Hoenig@nrc.gov.

Dated at Rockville, Maryland this 13th day of February, 2026.
For the U.S. Nuclear Regulatory Commission.
Russell E. Chazell,
Federal Advisory Committee Management Officer.

[FR Doc. 2026-03144 Filed 2-17-26; 8:45 am]

BILLING CODE 7590-01-P